FEDERAL COMMUNICATIONS COMMISSION

47 CFR Part 73

[DA-1419, MM Docket No. 00-119, RM-9879]

Digital Television Broadcast Service; Hazleton, PA

AGENCY: Federal Communications Commission.

ACTION: Proposed rule.

SUMMARY: The Commission requests comments on a petition filed by WOLF License Corporation, licensee of Station WOLF-TV, NTSC Channel 56, Hazleton, Pennsylvania, requesting the substitution of DTV Channel 45 for its assigned DTV Channel 9. DTV Channel 45 can be allotted to Hazleton, Pennsylvania, in compliance with the principle community coverage requirements of Section 73.625(a) at reference coordinates (41-11-00 N. and 75-52-10 W.). However, since the community of Hazleton is located within 400 kilometers of the U.S.-Canadian border, concurrence by the Canadian government must be obtained for this proposal. As requested, we propose to allot DTV Channel 45 to Hazleton with a power of 546 and a height above average terrain (HAAT) of 488 meters.

DATES: Comments must be filed on or before August 21, 2000, and reply comments on or before September 5, 2000.

ADDRESSES: Federal Communications Commission, 445 12th Street, SW., Room TW-A325, Washington, DC 20554. In addition to filing comments with the FCC, interested parties should serve the petitioner, or its counsel or consultant, as follows: David D. Oxenford, JoEllen Masters, Fisher, Wayland, Cooper, Leader & Zaragoza, 2001 Pennsylvania Avenue, NW., Suite 400, Washington, DC 20006 (Counsel for WOLF License Corporation).

FOR FURTHER INFORMATION CONTACT: Pam Blumenthal, Mass Media Bureau, (202) 418-1600.

SUPPLEMENTARY INFORMATION: This is a synopsis of the Commission's Notice of Proposed Rule Making, MM Docket No. 00-119, adopted June 26, 2000, and released June 29, 2000. The full text of this Commission decision is available for inspection and copying during normal business hours in the FCC Reference Center 445 12th Street, S.W., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
Barbara A. Kreisman,
Chief, Video Services Division, Mass Media Bureau.

[FR Doc. 00-17047 Filed 7-5-00; 8:45 am]

BILLING CODE 6712-01-P